ENVIRONMENTAL PROTECTION AGENCY

[FRL-6928-9]

Agency Information Collection Activities: Submission for OMB Review; Comment Request; Combined Sewer Overflow Control Policy

AGENCY: Environmental Protection Agency (EPA).

ACTION: Notice.

SUMMARY: In compliance with the Paperwork Reduction Act (44 U.S.C. 3501 et seq.), this document announces that the following Information Collection Request (ICR) renewal has been forwarded to the Office of Management and Budget (OMB) for review and approval: Information Collection Request for the Combined Sewer Overflow Control Policy (OMB Control Number 2040-0170; EPA ICR Number 1680.03; Expiration Date: December 31, 2000. The renewal ICR describes the nature of the information collection and its expected burden and cost.

DATES: Comments must be submitted on or before February 5, 2001.

ADDRESSES: Send comments, referencing EPA ICR No. 1680.03 and OMB Control Number 2040-0170, to the following addresses: Sandy Farmer, U.S. Environmental Protection Agency, Office of Environmental Information, Collection Strategies Division (Mail Code 2822), 1200 Pennsylvania Avenue, NW., Washington, DC 20460; and Office of Information and Regulatory Affairs, Office of Management and Budget, Attention: Desk Officer for EPA, 725 17th Street, NW., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1680.03. For technical question about the ICR contact Timothy Dwyer, EPA Office of Wastewater Management (Mail Code 4203M), Ariel Rios Building, 1200 Pennsylvania Avenue, NW., Washington, DC 20460.

SUPPLEMENTARY INFORMATION: Title: Information Collection Request for the Combined Sewer Overflow Control Policy (OMB Control Number 2040-0170; EPA ICR Number 1680.03; Expiration Date: December 31, 2000.

Abstract: The information to be collected under this request is the information recommended in the CSO Control Policy that will be developed by municipalities with combined sewer systems that have combined sewer overflows (CSOs). Specifically, the information is the documentation that the municipalities have implemented the nine minimum controls specified in the CSO policy, the long-term control plan that the municipalities must develop and implement to achieve compliance with the requirements of the Clean Water Act and applicable State water quality standards (WQS), and compliance monitoring data for demonstrating compliance with applicable WQS and National Pollutant Discharge Elimination System (NPDES) permit conditions. The first two information submittals are one-time submittals; the last element will be submitted semi-annually as part of the municipalities' Discharge Monitoring Reports (DMRs). EPA will use this information to determine how well the CSO Control Policy is being implemented at the State and local level and to prepare the performance reports required under the Government Performance and Results Act (GPRA). The information to be collected under this information collection is necessary to determine the program's achievement of GPRA performance measures. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 07/03/00 (65 FR 41065); no comments were received.

Burden Statement: The annual public reporting and recordkeeping burden for this collection of information is estimated to average 624 hours per response. Burden means the total time, effort, or financial resources expended by persons to generate, maintain, retain, or disclose or provide information to or for a Federal agency. This includes the time needed to review instructions; develop, acquire, install, and utilize technology and systems for the purposes of collecting, validating, and verifying information; processing and maintaining information, and disclosing and providing information; adjust the existing ways to comply with any previously applicable instructions and requirements; train personnel to be able to respond to a collection of information; search data sources; complete and review the collection of information; and transmit or otherwise disclose the information.

Respondents/Affected Entities: Municipalities with combined sewer systems that have combined sewer overflows (CSOs).

Estimated Number of Respondents: 930.

Frequency of Response: One time for selected items and semi-annually for other items.

Estimated Total Annual Hour Burden: 580,044 hours.

Estimated Total Annualized Capital and Operating & Maintenance Cost Burden: $182,000.

Send comments on the Agency's need for this information, the accuracy of the provided burden estimates, and any suggested methods for minimizing respondent burden, including through the use of automated collection techniques to the addresses listed above. Please refer to EPA ICR No. 1680.03 and OMB Control No. 2040-0170 in any correspondence.

Dated: December 27, 2000.
Oscar Morales,
Director, Collection Strategies Division.

[FR Doc. 01-222 Filed 1-3-01; 8:45 am]

BILLING CODE 6560-50-M